FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011528-020.

Title: Japan-United States Eastbound Freight Conference.

Parties:

American President Lines, Ltd.

Hapag-Lloyd Container Line GmbH

Kawasaki Kisen Kaisha, Ltd.

Mitsui O.S.K. Lines, Ltd.

A. P. Moller-Maersk Sealand

Nippon Yusen Kaisha

Orient Overseas Container Line Limited

P & O Nedlloyd B.V.

P & O Nedlloyd Limited

Wallenius Wilhelmsen Lines A.S.

Synopsis: The proposed agreement modification extends the suspension of the conference for another six-month period, until July 31, 2002.

Agreement No.: 011784.

Title: Indamex/TSA Bridging Agreement.

Parties: The Indamex Agreement, and The Transpacific Stabilization Agreement.

Synopsis: The proposed agreement authorizes the parties and their member lines to exchange information and to discuss and reach non-binding agreement on various matters including rates, charges, rules, and equipment in the trade from India, Pakistan, Bangladesh, and Sri Lanka to the United States East Coast. The agreement does not authorize common tariffs or service contracts, but does authorize the parties to discuss and agree on voluntary guidelines related to service contracts.

Agreement No.: 200233-011.

Title: Packer Avenue Lease and Operating Agreement.

Parties: Philadelphia Regional Port Authority, and Astro Holdings, Inc.

Synopsis: The proposed amendment extends the agreement through June 1, 2002.

Dated: December 21, 2001.
By Order of the Federal Maritime Commission.
Bryant L. VanBrakle,
Secretary.

[FR Doc. 01-31953 Filed 12-27-01; 8:45 am]

BILLING CODE 6730-01-P